EXPORT-IMPORT BANK

Information Request on U.S. and Foreign Content in Transformational Exports; Extension of Comment Period

AGENCY: Export-Import Bank of the United States.

ACTION: Notice.

SUMMARY: On April 23, 2021, the Export-Import Bank of the United States (EXIM) requested information on the U.S. and foreign content in certain transformational export areas and sought public comment within 21 days of the date the notice appeared in the Federal Register.

FOR FURTHER INFORMATION CONTACT: Interested parties may also submit comments to Scott.Condren@exim.gov or by mail to 811 Vermont Avenue NW, Room 1261, Washington, DC 20571.

SUPPLEMENTARY INFORMATION: EXIM is extending the comment period on FR Doc. 2021-08418 an additional 14 days to May 28th, 2021. Comments can be made at www.regulations.gov by searching EIB-2021-0001.

Authority: To assist the Export-Import Bank of the United States (EXIM) in the implementation of its historic seven-year reauthorization and directive to establish a new “Program on China and Transformational Exports” (“directive”), EXIM seeks information on the level of U.S. and foreign content in U.S. exports in the identified transformational export areas.

Scott Condren,
Sr. Policy Analyst, Office of Policy Analysis and International Relations.

[FR Doc. 2021-10323 Filed 5-14-21; 8:45 am]

BILLING CODE 6690-01-P